DEPARTMENT OF AGRICULTURE

National Agricultural Library

Notice of Intent To Seek Approval To Collect Information

AGENCY: National Agricultural Library, Agricultural Research Service, USDA.

ACTION: Notice and request for comments.

SUMMARY: In accordance with the Paperwork Reduction Act of 1995 (Pub. L. 104-13) and Office of Management and Budget (OMB) regulations at 5 CFR part 1320 (60 FR 44978, August 29, 1995), this notice announces the National Agricultural Library's intent to request approval for a new electronic mailing list subscription form from those working with water quality and water resources. This voluntary form gives individuals an opportunity to receive and post messages to an electronic discussion list maintained by the Water Quality Information Center (WQIC).

DATES: Comments on this notice must be received by June 4, 2012 to be assured of consideration.

ADDRESSES: You may submit comments by any of the following methods:

• Agency Web site: http://www.nal.usda.gov/wqic/askaquestion.php. Follow the instructions for submitting comments on the Water Quality Information Center Web site.

• Fax: 301-504-6409 attention: Water Quality Information Center.

• Mail/Hand Delivery/Courier: Water Quality Information Center/National Agricultural Library, 10301 Baltimore Ave., Room 107, Beltsville, Maryland 20705-2351.

SUPPLEMENTARY INFORMATION: Title: Electronic Mailing List Subscription Form.

OMB Number: 0518-0045.

Expiration Date: 3 years from date of approval.

Type of Request: Renewal of existing data collection from Water Quality Information Center discussion list subscribers.

Abstract: The National Agricultural Library's Water Quality Information Center (WQIC) currently maintains an on-line announcement-only discussion list. The current voluntary “Electronic Mailing List Subscription Form” gives individuals interested in the subject area of water quality and agriculture an opportunity to receive and post messages to this list. The form includes the following items: This form contains five items and is used to collect information about participants who are interested in joining an electronic discussion group. The form collects data to see if a person is eligible to join the discussion group. Because these electronic discussion groups are only available to people who work in the areas of water quality and water resources, it is necessary to gather this information. The questionnaire asks for the person's name, email address, job title, work affiliation, and topics of interest. The online submission form will continue to serve as an efficient vehicle that allows WQIC staff to communicate with researchers and practitioners working with water quality and water resources.

Estimate of Burden: Public reporting burden for this collection of information is estimated to average 1.0 minutes per response.

Respondents: Water quality and water resources researchers and practitioners.

Estimated Number of Respondents: 55 per year.

Estimated Total Annual Burden on Respondents: 0.9 hrs.

Comments: Comments are invited on (a) Whether the proposed collection of information is necessary for the proper performance for the functions of the agency, including whether the information will have practical utility; (b) the accuracy of the agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for OMB approval. All comments will become a matter of public record.

Dated: March 12, 2012.
Edward B. Knipling,
Administrator, Agricultural Research Service.

[FR Doc. 2012-7568 Filed 3-28-12; 8:45 am]

BILLING CODE 3410-03-P